ENVIRONMENTAL PROTECTION AGENCY

[FRL-10021-52-Region 3]

Notice of Administrative Settlement Agreement Pursuant to the Comprehensive Environmental Response, Compensation, and Liability Act

AGENCY: Environmental Protection Agency (EPA).

ACTION: Notice; request for public comment.

SUMMARY: In accordance with the Comprehensive Environmental Response, Compensation, and Liability Act (“CERCLA”), notice is hereby given that a proposed administrative settlement agreement for recovery of response costs (“Proposed Agreement”) associated with the Transportation Drive PCB Superfund Site in Hazle Township, Luzerne County, Pennsylvania (“Site”) was executed by the Environmental Protection Agency (“EPA”) and is now subject to public comment, after which EPA may modify or withdraw its consent if comments received disclose facts or considerations that indicate that the Proposed Agreement is inappropriate, improper, or inadequate. The Proposed Agreement would resolve potential EPA claims against Consolidated Lands, LLC (“Settling Party”). The Proposed Agreement would require Settling Party to reimburse EPA $250,000.00 for response costs incurred by EPA for the Site. For thirty (30) days following the date of publication of this notice, EPA will receive electronic comments relating to the Proposed Agreement. EPA's response to any comments received will be available for public inspection by request. Please see the ADDRESSES section of this notice for special instructions in effect due to impacts related to the COVID-19 pandemic.

DATES: Comments must be submitted on or before May 7, 2021.

ADDRESSES: As a result of impacts related to the COVID-19 pandemic, requests for documents and submission of comments must be via electronic mail, except as provided below. The Proposed Agreement and additional background information relating to the Proposed Agreement are available for public inspection upon request by contacting Maria Goodine, Compliance Officer, at goodine.maria@epa.gov. Comments must be submitted via electronic mail to this same email address and should reference the “Transportation Drive PCB Superfund Site, Proposed Settlement Agreement” and “EPA CERCLA Docket No. CERC-03-2021-0009CR.” Persons without access to electronic mail may call Ms. Goodine at (215) 814-2488 to make alternative arrangements.

FOR FURTHER INFORMATION CONTACT: Maria Goodine (3SD41), Compliance Officer, U.S. Environmental Protection Agency Region III, Phone: (215) 814-2488; email: goodine.maria@epa.gov.

Dated: April 1, 2021.
Linda Dietz,
Acting Director, Superfund and Emergency Management Division, U.S. Environmental Protection Agency, Region III.

[FR Doc. 2021-07138 Filed 4-6-21; 8:45 am]

BILLING CODE 6560-50-P